DEPARTMENT OF LABOR

Employment and Training Administration

[TA-W-50,597 and TA-W-50,597A]

Harriet & Henderson Yarns, Inc., J.D. Plant, and Harriet & Henderson Yarns, Inc., Henderson Plant, Henderson, NC; Notice of Revised Determination on Reconsideration

By application of May 28, 2003 and May 29, 2003, a company official requested administrative reconsideration regarding the Department's Negative Determination Regarding Eligibility to Apply for Worker Adjustment Assistance, applicable to the workers of the subject firm.

The initial investigation resulted in a negative determination issued on April 30, 2003, based on the finding that imports of open end spun yarn and ring spun yarn did not contribute importantly to worker separations at the subject facilities. The denial notice was published in the Federal Register on May 9, 2003 (68 FR 25060).

In their request, the company asked that the subject firm workers be reconsidered for certification on the basis of acting as upstream suppliers to firms under active certification for trade adjustment assistance.

After a review of the subject firm customers on this basis, including several customers not supplied in the original investigation, it was revealed that Harriet & Henderson Yarns, Inc., Henderson Plant, Henderson, North Carolina supplied component parts for polyester cotton fabric produced by Galey and Lord Industries (TA-W-39,945), and a loss of business with this manufacturer contributed importantly to the workers' separation. It was further revealed that Harriet & Henderson Yarns, Inc., J.D. Plant, Henderson, North Carolina supplied component parts for socks and gloves produced by several trade certified firms, and a loss of business with these manufacturers contributed importantly to the workers' separation.

Conclusion

After careful review of the facts obtained in the investigation, I determine that workers of Harriet & Henderson Yarns, Inc., J.D. Plant, Henderson, North Carolina (TA-W-50,597) and Harriet & Henderson Yarns, Inc., Henderson Plant, Henderson, North Carolina (TA-W-50,597A) qualify as adversely affected secondary workers under section 222 of the Trade Act of 1974, as amended. In accordance with the provisions of the Act, I make the following certification:

All workers of Harriet & Henderson Yarns, Inc., J.D. Plant, Henderson, North Carolina (TA-W-50,597) and Harriet & Henderson Yarns, Inc., Henderson Plant, Henderson, North Carolina (TA-W-50,597A) who became totally or partially separated from employment on or after January 16, 2002, through two years from the date of certification are eligible to apply for adjustment assistance under section 223 of the Trade Act of 1974.

Signed at Washington, DC, this 26th day of June 2003.
Elliott S. Kushner,
Certifying Officer, Division of Trade Adjustment Assistance.

[FR Doc. 03-17825 Filed 7-14-03; 8:45 am]

BILLING CODE 4510-30-P